DEPARTMENT OF COMMERCE

International Trade Administration

[A-489-829]

Steel Concrete Reinforcing Bar From the Republic of Turkey: Final Determination of Sales at Less Than Fair Value

AGENCY: Enforcement and Compliance, International Trade Administration, Department of Commerce.

SUMMARY: The Department of Commerce (the Department) determines that imports of steel concrete reinforcing bar (rebar) from the Republic of Turkey (Turkey) are being, or are likely to be, sold in the United States at less than fair value (LTFV). The period of investigation (POI) is July 1, 2015, through June 30, 2016. For information on the estimated weighted-average dumping margins of sales at LTFV, see the “Final Determination” section of this notice.

DATES: Effective May 22, 2017.

FOR FURTHER INFORMATION CONTACT: Myrna Lobo or Alex Cipolla, AD/CVD Operations, Office VII, Enforcement and Compliance, International Trade Administration, U.S. Department of Commerce, 1401 Constitution Avenue NW., Washington, DC 20230; telephone: (202) 482-2371 or (202) 482-4956, respectively.

SUPPLEMENTARY INFORMATION:

Background

On March 7, 2017, the Department published the Preliminary Determination of this antidumping duty (AD) investigation.¹ The petitioner in this investigation is the Rebar Trade Action Coalition and its individual members.² The mandatory respondents in this investigation are Habaş Sinai ve Tibbi Gazlar Istihsal Endüstrisi A.Ş. (Habas) and Icdas Celik Enerji Tersane ve Ulasim Sanayi A.Ş. (Icdas). Both Habas and Icdas participated in this investigation. A complete summary of the events that occurred since publication of the Preliminary Determination, as well as a full discussion of the issues raised by parties for this final determination, may be found in the Final Issues and Decision Memorandum, which is dated concurrently with and hereby adopted by this notice.³ The Issues and Decision Memorandum is a public document and is available electronically via Enforcement and Compliance's Antidumping and Countervailing Duty Centralized Electronic Service System (ACCESS). Access is available to registered users at http://access.trade.gov and to all parties in the Central Records Unit, Room B-8024 of the Department's main building. In addition, a complete version of the Issues and Decision Memorandum can be accessed at http://enforcement.trade.gov/frn/. The signed Issues and Decision Memorandum and the electronic version are identical in content.

¹ See Steel Concrete Reinforcing Bar From the Republic of Turkey: Preliminary Affirmative Determination of Sales at Less Than Fair Value, 82 FR 12791 (March 7, 2017) (Preliminary Determination) and accompanying Preliminary Decision Memorandum.

² The Rebar Trade Action Coalition is comprised of Byer Steel Group, Inc., Commercial Metals Company, Gerdau Ameristeel U.S. Inc., Nucor Corporation, and Steel Dynamics, Inc.

³ See Memorandum, “Issues and Decision Memorandum for the Final Affirmative Determination in the Antidumping Duty Investigation of Steel Concrete Reinforcing Bar from the Republic of Turkey,” (Issues and Decision Memorandum).

Scope of the Investigation

The scope of the investigation covers rebar from Turkey. The Department did not receive any scope comments and has not updated the scope of the investigation since the Preliminary Determination. For a complete description of the scope of this investigation, see Appendix I to this notice.

Analysis of Comments Received

The issues raised in the case briefs and rebuttal briefs submitted by interested parties in this proceeding are discussed in the Issues and Decision Memorandum. A list of the issues raised by parties and responded to by the Department in the Issues and Decision Memorandum is attached at Appendix II to this notice.

Verification

As provided in section 782(i) of the Tariff Act of 1930, as amended (the Act), during March 2017, the Department verified the sales and cost data reported by Habas and Icdas. We used standard verification procedures, including an examination of relevant accounting and production records, and original source documents provided by the respondents.

Use of Adverse Facts Available

In making this final determination, the Department relied, in part, on facts available. As discussed in the Issues and Decision Memorandum,⁴ we determine that Icdas withheld necessary information with respect to manufacturer of certain home market sales made by affiliates during the POI and, accordingly, did not act to the best of its ability in responding to the Department's request for information. Therefore, we drew an adverse inference, where appropriate, in selecting from among the facts otherwise available.⁵ For further information, see the “Use of Facts Otherwise Available and Adverse Inferences” in the accompanying Issues and Decision Memorandum.

⁴ See Issues and Decision Memorandum at 4 and Comment 10.

⁵ See sections 776(a) and (b) of the Act.

Changes Since the Preliminary Determination

Based on our analysis of the comments received and our findings at verification, we made certain changes to the margin calculations since the Preliminary Determination. These changes are discussed in the “Analysis of Programs” section of the Issues and Decision Memorandum.

All-Others Rate

In accordance with section 735(c)(1)(B)(i)(I) of the Act, the Department calculated a dumping margin for the individually investigated exporters/producers of the subject merchandise. Consistent with sections 735(c)(1)(B)(i)(II) and 735(c)(5) of the Act, the Department also calculated an estimated “all-others” rate for exporters and producers not individually investigated. Section 735(c)(5)(A) of the Act provides that the “all-others” rate shall be an amount equal to the weighted-average of the estimated weighted-average dumping margins established for individually investigated exporters and producers, excluding any margins that are zero or de minimis or any margins determined entirely under section 776 of the Act. Because the estimated weighted-average dumping margins calculated for Habas and Icdas are not zero or de minimis or based entirely on facts available under section 776 of the Act, we calculated the all-others rate using a weighted-average of the dumping margins calculated for the mandatory respondents using each company's publicly-ranged values for the merchandise under consideration, pursuant to section 735(c)(5)(A) of the Act.⁶

⁶ With two respondents, we would normally calculate (A) a weighted-average of the dumping margins calculated for the mandatory respondents; (B) a simple average of the dumping margins calculated for the mandatory respondents; and (C) a weighted-average of the dumping margins calculated for the mandatory respondents using each company's publicly-ranged values for the merchandise under consideration. We would compare (B) and (C) to (A) and select the rate closest to (A) as the most appropriate rate for all other companies. See Ball Bearings and Parts Thereof From France, Germany, Italy, Japan, and the United Kingdom: Final Results of Antidumping Duty Administrative Reviews, Final Results of Changed-Circumstances Review, and Revocation of an Order in Part, 75 FR 53661, 53663 (September 1, 2010); see also Memorandum to the File, “Steel Concrete Reinforcing Bar from the Republic of Turkey: Calculation of the Margin for All Others Rate for the Final Determination,” dated May 15, 2017.

Final Determination

The Department determines the estimated weighted-average dumping margins to be:

Company | Estimated weighted- average dumping margin | Cash deposit rate adjusted for subsidy offset(s))
Habas Sinai ve Tibbi Gazlar Istihsal Endustrisi A.S. | 5.39 | 5.18
Icdas Celik Enerji Tersane ve Ulasim Sanayi A.S. | 8.17 | 8.00
All-Others | 6.94 | 6.77

Disclosure

In accordance with 19 CFR 351.224(b), we will disclose the calculations performed within five days of any public announcement of this notice.

Continuation of Suspension of Liquidation

In accordance with section 735(c)(1)(B) of the Act, the Department will instruct U.S. Customs and Border Protection (CBP) to continue to suspend liquidation of all appropriate entries of rebar from Turkey, as described in Appendix I of this notice, which were entered, or withdrawn from warehouse, for consumption on or after March 7, 2017, the date of publication of the Preliminary Determination. Furthermore, the Department will instruct CBP to require a cash deposit for such entries of merchandise. The Department normally adjusts cash deposits for estimated antidumping duties by the amount of export subsidies countervailed in a companion countervailing duty (CVD) proceeding, when CVD provisional measures are in effect. Accordingly, where the Department made an affirmative determination for countervailable export subsidies, the Department has offset the estimated weighted-average dumping margin by the appropriate CVD rate.⁷ Any such adjusted cash deposit rate may be found in the “Final Determination” section, above.

⁷ See Memorandum to the File, “Antidumping Duty Investigation of Steel Concrete Reinforcing Bar from the Republic of Turkey: Final Calculation Memorandum for Habas Sinai ve Tibbi Gazlar Istihsal Endustrisi A.S.,” dated concurrently with this Notice; See also Memorandum to the File, “Antidumping Duty Investigation of Steel Concrete Reinforcing Bar from the Republic of Turkey: Final Margin Calculation for Icdas Celik Enerji Tersane ve Ulasim Sanayi A.S.,” dated concurrently with this Notice; See also Memorandum to the File, “Antidumping Duty Investigation of Steel Concrete Reinforcing Bar from the Republic of Turkey: Final Calculation for the ‘All Others’ Rate,” dated concurrently with this Notice.

International Trade Commission Notification

In accordance with section 735(d) of the Act, we will notify the U.S. International Trade Commission (ITC) of the final affirmative determination of sales at LTFV. Because the final determination in this proceeding is affirmative, in accordance with section 735(b)(2) of the Act, the ITC will make its final determination as to whether the domestic industry in the United States is materially injured, or threatened with material injury, by reason of imports of rebar from Turkey no later than 45 days after our final determination. If the ITC determines that material injury or threat of material injury does not exist, the proceeding will be terminated and all cash deposits will be refunded. If the ITC determines that such injury does exist, the Department will issue an AD order directing CBP to assess, upon further instruction by the Department, antidumping duties on all imports of the subject merchandise entered, or withdrawn from warehouse, for consumption on or after the effective date of the suspension of liquidation, as discussed above in the “Continuation of Suspension of Liquidation” section.

Notification Regarding Administrative Protective Orders

This notice serves as the only reminder to parties subject to an administrative protective order (APO) of their responsibility concerning the disposition of proprietary information disclosed under APO in accordance with 19 CFR 351.305(a)(3). Timely notification of the return/destruction of APO materials or conversion to judicial protective order is hereby requested. Failure to comply with the regulations and the terms of an APO is a violation subject to sanction.

This determination is issued and published in accordance with sections 735(d) and 777(i)(1) of the Act.

Dated: May 15, 2017.
Ronald K. Lorentzen,
Acting Assistant Secretary for Enforcement and Compliance.

Appendix I

Scope of the Investigation

The merchandise subject to this investigation is steel concrete reinforcing bar imported in either straight length or coil form (rebar) regardless of metallurgy, length, diameter, or grade or lack thereof. Subject merchandise includes deformed steel wire with bar markings (e.g., mill mark, size, or grade) and which has been subjected to an elongation test.

The subject merchandise includes rebar that has been further processed in the subject country or a third country, including but not limited to cutting, grinding, galvanizing, painting, coating, or any other processing that would not otherwise remove the merchandise from the scope of the investigation if performed in the country of manufacture of the rebar.

Specifically excluded are plain rounds (i.e., nondeformed or smooth rebar). Also excluded from the scope is deformed steel wire meeting ASTM A1064/A1064M with no bar markings (e.g., mill mark, size, or grade) and without being subject to an elongation test.

The subject merchandise is classifiable in the Harmonized Tariff Schedule of the United States (HTSUS) primarily under item numbers 7213.10.0000, 7214.20.0000, and 7228.30.8010. The subject merchandise may also enter under other HTSUS numbers including 7215.90.1000, 7215.90.5000, 7221.00.0017, 7221.00.0018, 7221.00.0030, 7221.00.0045, 7222.11.0001, 7222.11.0057, 7222.11.0059, 7222.30.0001, 7227.20.0080, 7227.90.6030, 7227.90.6035, 7227.90.6040, 7228.20.1000, and 7228.60.6000.

HTSUS numbers are provided for convenience and customs purposes; however, the written description of the scope remains dispositive.

Appendix II

List of Topics Discussed in the Final Issues and Decision Memorandum

I. Summary

II. Background

III. Scope of the Investigation

IV. Scope Comments

V. Changes Since the Preliminary Determination

VI. Application of Facts Available and Use of Adverse Inferences

VII. Discussion of the Issues

Comment 1: Whether Respondents' Duty Drawback Adjustment Should be Granted as Reported and How to Calculate any Adjustment

Comment 2: Whether Respondents' Margins Should be Calculated Using Quarterly Cost

Habas

Comment 3: Whether the U.S. Date of Sale is the Contract Date

Comment 4: Whether the Department Should Impute Interest Expense on Zero-Interest Financing Provided by Anadolubank

Comment 5: Whether Zero-Interest Loans Should be Included in the Interest Rate for CREDITH

Icdas

Comment 6: Whether the Department Should Revise Icdas' Costs Consistent with Turkish GAAP

Comment 7: Whether the Department Should Revise Icdas' Short-Length Rebar Cost

Comment 8: Whether the Department Should Disallow Offsets to Icdas' G&A Expenses for Reimbursements Related to Port Services Provided to Third Parties

Comment 9: Whether the Department Should Revise the Manufacturer Code Assignments in the Home Market Resellers' Sales File in the Comparison Market Program

Comment 10: Whether the Department Should Apply Partial AFA to Icdas with Respect to Missing Manufacturer Codes in the Home Market Resellers Sales File

Comment 11: Whether the Department Should Adjust Normal Value for Certain Home Market Movement Expenses

Comment 12: Whether the Department Should Use the Correct Home Market Credit Expense Amount CREDIT2H in its Calculation of Normal Value

Comment 13a: Whether the Department Should Adjust Arten's Sales to Exclude VAT

Comment 13b: Whether the Department Should Adjust Home Market Freight Expense for Certain Sales in Order to Eliminate Understatement of this Expense Due to Double Counting of VAT

Comment 14: Whether the Department Should Use the Correct Home Market Gross Unite Price Data in its Margin Calculation

Comment 15: Whether the Department Should Continue to Differentiate Between Air and Water Cooled Rebar

Comment 16: Whether the Department Should Reconsider and Reverse its Decision to Refuse to Accept Icdas' Timely and Properly Submitted Minor Corrections of February 15, 2017

Comment 17: Whether the Computer Programming Error Regarding Icdas' Ending Period Date for U.S. Sales Should be Corrected

VIII. Recommendation

[FR Doc. 2017-10346 Filed 5-19-17; 8:45 am]

BILLING CODE 3510-DS-P